DEPARTMENT OF VETERANS AFFAIRS

[OMB Control No. 2900-NEW (Focus Groups of Department of Veterans Beneficiaries)]

Proposed Information Collection Activity: Proposed Collection; Comment Request

AGENCY: Office of Planning and Evaluation, Department of Veterans Affairs.

ACTION: Notice.

SUMMARY: The Office of Policy, Planning and Preparedness, Department of Veterans Affairs (VA), is announcing an opportunity for public comment on the proposed collection of certain information by the agency. Under the Paperwork Reduction Act (PRA) of 1995, Federal agencies are required to publish notice in the Federal Register concerning each proposed collection of information, including each proposed new collection of information, and allow 60 days for public comment in response to the notice. This notice solicits comments on information that will be collected by focus groups conducted nationwide concerning the usage of VA benefits.

DATES: Written comments and recommendations on the proposed collection of information should be received on or before July 12, 2004.

ADDRESSES: Submit written comments on the collection of information to David Walton, Project Manager, Office of Assistant Secretary for Planning, Policy and Preparedness (008B1), Department of Veterans Affairs, 810 Vermont Ave., NW., Washington, DC 20420 or e-mail david.walton@mail.va.gov. Please refer to “OMB Control No. 2900-NEW (Focus Groups of Department of Veterans Beneficiaries)” in any correspondence.

FOR FURTHER INFORMATION CONTACT: David Walton at (202) 273-5061 or FAX (202) 273-5991.

SUPPLEMENTARY INFORMATION: Under the PRA of 1995 (Public Law 104-13; 44 U.S.C. 3501-3521), Federal agencies must obtain approval from the Office of Management and Budget (OMB) for each collection of information they conduct or sponsor. This request for comment is being made pursuant to Section 3506(c)(2)(A) of the PRA.

With respect to the following collection of information, the Office of Planning Policy, and Preparedness invites comments on: (1) Whether the proposed collection of information is necessary for the proper performance of VA's functions, including whether the information will have practical utility; (2) the accuracy of VA's estimate of the burden of the proposed collection of information; (3) ways to enhance the quality, utility, and clarity of the information to be collected; and (4) ways to minimize the burden of the collection of information on respondents, including through the use of automated collection techniques or the use of other forms of information technology.

Title: Focus Groups of Department of Veterans Beneficiaries.

OMB Control Number: None assigned.

Type of Review: New collection.

Abstract: The proposed focus groups are intended to collect data as part of the Department's Environmental Scan to assess the effectiveness and efficiency of VA programs that assist veterans and their families. The Environmental Scan is used to support the Department's overall strategic planning process.

Affected Public: Individuals or households.

Estimated Average Burden Per Respondent: 60 minutes.

Estimated Time Per Respondent and Annual Burden: 560 hours.

Frequency of Response: On occasion.

Estimated Number of Respondents: 280.

Dated: May 6, 2004.
By direction of the Secretary.
Loise Russell,
Director, Records Management Service.

[FR Doc. 04-10809 Filed 5-12-04; 8:45 am]

BILLING CODE 8320-01-P